DEPARTMENT OF JUSTICE

[OMB Number 1110-0071]

Agency Information Collection Activities; Proposed eCollection eComments Request; National Use-of-Force Data Collection: Extension of a Currently Approved Collection

AGENCY: Federal Bureau of Investigation, Department of Justice.

ACTION: 30-Day notice.

SUMMARY: The Department of Justice, Federal Bureau of Investigation's (FBI's) Criminal Justice Information Services (CJIS) Division is submitting the following information collection request to the Office of Management and Budget (OMB) for review and approval in accordance with the Paperwork Reduction Act of 1995.

DATES: Comments are encouraged and will be accepted for 30 days until January 26, 2022.

ADDRESSES: Please note: The most current renewal documentation for the National Use-of-Force Data Collection has been updated and is available for review on reginfo.gov under OMB No. 1110-0071.

Written comments and suggestions regarding the items contained in this notice, especially the estimated burden and associated response time, may be sent for consideration in a number of ways. Written comments and recommendations for the proposed information collection should be sent within 30 days of publication of this notice to www.reginfo.gov/public/do/PRAMain. Find this particular information collection by selecting “Currently under 30-day Review—Open for Public Comments” or by using the search function.

SUPPLEMENTARY INFORMATION:

Written comments and suggestions from the public and affected agencies concerning the proposed collection of information are encouraged. Your comments should address one or more of the following four points:

• Evaluate whether the proposed collection of information is necessary for the proper performance of the functions of the FBI, including whether the information will have practical utility.

• Evaluate the accuracy of the agency's estimate of the burden of the proposed collection of information, including the validity of the methodology and assumptions used.

• Evaluate whether, and if so, how the quality, utility, and clarity of the information to be collected can be enhanced.

• Minimize the burden of the collection of information on those who are to respond, including through the use of appropriate automated, electronic, mechanical, or other technological collection techniques or other forms of information technology, e.g., permitting electronic submission of responses.

Overview of this information collection:

(1) Type of Information Collection: Extension of a currently approved collection.

(2) The Title of the Form/Collection: National Use-of-Force Data Collection.

(3) The agency form number, if any, and the applicable component of the Department sponsoring the collection: The form number is 1110-0071. Sponsor: CJIS Division, FBI, Department of Justice.

(4) Affected public who will be asked or required to respond, as well as a brief abstract: Federal, state, local, and tribal law enforcement agencies.

Abstract: The FBI has a long-standing tradition of collecting data and providing statistics concerning Law Enforcement Officers Killed and Assaulted (LEOKA) and justifiable homicides. To provide a better understanding of the incidents of use of force by law enforcement, the Uniform Crime Reporting (UCR) Program developed a new data collection for law enforcement agencies to provide information on incidents where use of force by a law enforcement officer has led to the death or serious bodily injury of a person, as well as when a law enforcement officer discharges a firearm at or in the direction of a person.

When a use-of-force incident occurs, federal, state, local, and tribal law enforcement agencies provide information to the data collection on characteristics of the incident, subjects of the use of force, and the officers who applied force in the incident. Agencies positively affirm, on a monthly basis, whether their agency did or did not have a use-of-force incident that resulted in a fatality, a serious bodily injury to a person, or a firearm discharge at or in the direction of a person. When no use-of-force incident occurs in a month, agencies submit a zero report. Enrollment information from agencies and state points of contact is collected when the agency or contact initiates participation in the data collection. Enrollment information is updated no less than annually to assist with managing this data.

The new data collection defines a law enforcement officer using the current LEOKA definition: “All federal, state, county, and local law enforcement officers (such as municipal, county police officers, constables, state police, highway patrol, sheriffs, their deputies, federal law enforcement officers, marshals, special agents, etc.) who are sworn by their respective government authorities to uphold the law and to safeguard the rights, lives, and property of American citizens. They must have full arrest powers and be members of a public governmental law enforcement agency, paid from government funds set aside specifically for payment to sworn police law enforcement organized for the purposes of keeping order and for preventing and detecting crimes, and apprehending those responsible.”

The definition of “serious bodily injury” is based, in part, on Title 18 United States Code, Section 2246 (4), to mean “bodily injury that involves a substantial risk of death, unconsciousness, protracted and obvious disfigurement, or protracted loss or impairment of the function of a bodily member, organ, or mental faculty.” These actions include the use of a firearm; an electronic control weapon (e.g., Taser); an explosive device; a pepper or OC (oleoresin capsicum) spray or other chemical agent; a baton; an impact projectile; a blunt instrument; hands-fists-feet; or a canine.

(5) A total number of respondents and the amount of time estimated for an average respondent to respond: As of June 2020, a total of 6,837 agencies covering 439,936 law enforcement officers were enrolled in the National Use-of-Force Data Collection. The burden hours per incident are estimated to be 0.63 of an hour (around 38 minutes) for completion per incident.

(6) An estimate of the total public burden (in hours) associated with the collection: Burden estimates are based on sources from the FBI's UCR Program, the Bureau of Justice Statistics (BJS), and the Centers for Disease Control and Prevention (CDC). The BJS recently estimated that approximately 1,400 fatalities attributed to a law enforcement use of force occur annually (Planty, et al., 2015, Arrest-Related Deaths Program: Data Quality Profile, http://www.bjs.gov/index.cfm?ty=pbdetail&iid=5260). In addition, the CDC estimates the incidences of fatal and nonfatal injury—including those due to legal intervention—from emergency department data. In their study, The real risks during deadly police shootouts: Accuracy of the naïve shooter, Lewinski, et al., (2015) estimate law enforcement officers miss their target approximately 50 percent of the time at the firing range. This information was used to develop a simple estimate for the number of times officers discharge a firearm at or in the direction of a person but do not strike the individual. In addition, the UCR Program collects counts of the number of sworn and civilian law enforcement employees in the nation's law enforcement agencies.

The following table shows burden estimates based on previous estimation criteria and current National Use-of-Force Data Collection enrollment numbers.

Estimated Burden for All Law Enforcement Agencies in Annual Collection
Timeframe | Reporting group | Approximate number of officers from participating agencies | Maximum per capita rate of use-of-force occurrence per officer | Minimum per capita rate of use-of-force occurrence per officer | Maximum estimated number of incidents | Minimum estimated number of incidents | Estimated burden hours per incident | Maximum estimate total number of burden hours | Minimum estimate total number of burden hours
Collection (Annual) | All agencies submitting data | 488,600 | 0.122 | 0.012 | 59,609 | 5,863 | 0.63 | 37,554 | 3,694

Based on previous estimation criteria and enrollment numbers as of October 5, 2021, the FBI is requesting 37,554 burden hours for the annual collection of this data. This reflects a slight change from the previously published 60-day public notice, as participation in the National Use-of-Force Data Collection is continuing to increase.

If additional information is required, contact: Melody Braswell, Department Clearance Officer, United States Department of Justice, Justice Management Division, Policy and Planning Staff, Two Constitution Square, 145 N Street NE, 3E.405A, Washington, DC 20530.

Dated: December 21, 2021.
Melody Braswell,
Department Clearance Officer for PRA, U.S. Department of Justice.

[FR Doc. 2021-27995 Filed 12-23-21; 8:45 am]

BILLING CODE 4410-02-P